DEPARTMENT OF TRANSPORTATION

Federal Aviation Administration

Notice Before Waiver With Respect to Land at Niagara Fall International Airport, Niagara Falls, New York

AGENCY: Federal Aviation Administration (FAA), DOT.

ACTION: Notice of intent of waiver with respect to land.

SUMMARY: The FAA is publishing notice of the proposed release of approximately 4.9 acres of land located directly across Niagara Falls Boulevard from the terminal building at Niagara Falls International Airport, to allow its sale for non-aviation development. The parcel was part of the airport land deeded to the City of Niagara Falls under a quit claim conveyance from the United States. When the airport property was conveyed to the Niagara Frontier Transportation Authority (NFTA), this parcel was not transferred, and remains under the ownership of the city of Niagara Falls. The City of Niagara Falls proposes to sell the land to a developer who will it develop it as a car dealership or another similar use.

FAA's action is to release the land from a deed provision requiring aeronautical use of the property. The NFTA has stated that it has no aeronautical use for the parcel now or in the near future according to the Niagara Falls Intl. Airport Layout Plan. The Fair Market Value of the land will be paid to the NFTA for the maintenance, operation and capital development of the Niagara Falls International Airport.

Any comments the agency receives will be considered as a part of the decision.

DATES: Comments must be received on or before October 22, 2001.

ADDRESSES: Comments on this application may be mailed or delivered in triplicate to the FAA at the following address: Philip Brito, Manager, FAA New York Airports District Office, 600 Old Country Road, Suite 446 Garden City, New York 11530.

In addition, one copy of any comments submitted to the FAA must be mailed or delivered to Mr. Thomas M. O'Donnell, Deputy Corporation Counsel, City of Niagara Falls, at the following address: Mr. Thomas M. O'Donnell, Deputy Corporation Counsel, City of Niagara Falls, P.O. Box 69, Niagara Falls, New York 14302-0069.

FOR FURTHER INFORMATION CONTACT: Mr. Philip Brito, Manager, New York Airports District Office, 600 Old Country Road, Suite 446, Garden City, New York 11530; telephone (516) 227-3803; FAX (516) 227-3813; E-Mail Philip.Brito@faa.gov.

SUPPLEMENTARY INFORMATION: On April 5, 2000, new authorizing legislation became effective. That bill, the Wendell H. Ford Aviation Investment and Reform Act for the 21st Century, Public Law 10-181 (Apr. 5, 2000; 114 Stat. 61) (AIR 21) requires that a 30 day public notice must be provided before the Secretary may waive any condition imposed on an interest in surplus property.

Issued in Garden City, New York on September 3, 2001.
Philip Brito,
Manager, New York Airports District Office, Eastern Region.

[FR Doc. 01-23693 Filed 9-20-01; 8:45 am]

BILLING CODE 4910-13-M